GENERAL SERVICES ADMINISTRATION

[Notice-PBS-2022-06; Docket No. 2022-0002; Sequence No. 26]

Notice of Intent To Prepare an Environmental Impact Statement and Initiate Section 106 Consultation for Four Buildings at 202, 208-212, 214 and 220 South State Street, Chicago, Illinois, and Notice of Public Scoping Meetings and Comment Period

AGENCY: Public Buildings Service (PBS), General Services Administration (GSA).

ACTION: Notice; public meeting.

SUMMARY: The General Services Administration (GSA) intends to prepare an Environmental Impact Statement (EIS) and conduct the Section 106 Process of the National Historic Preservation Act (NHPA) to address the future of buildings 202, 208-212, 214 and 220 South State Street between Adams Street and Jackson Boulevard, adjacent to the Dirksen Federal Courthouse in Chicago's South Loop, downtown Chicago, Illinois. All four properties, for which Congress has appropriated funds for demolition, reside in the Loop Retail Historic District listed in the National Register of Historic Places. Two of the four buildings, the Century Building (202 State Street) and the Consumers Building (220 South State Street) are identified as contributing structures to the historic district.

DATES: A scoping meeting will be held at the Morrison Conference Center in the Ralph H. Metcalfe Federal Building, 77 W. Jackson Blvd., Chicago, IL 60604, on Thursday, November 10, 2022, from 4 to 7 p.m., CST (Central Standard Time). Written comments must be received by Monday, December 12, 2022, in order to be considered in the EIS. Participants will be given an opportunity to comment based on the order in which they register. Each person will be allowed three minutes to comment during the meeting. Written comments will be accepted before and after the meeting and given the same priority as oral comments.

ADDRESSES: People wishing to attend the public meeting in-person or virtually are asked to register for the event at this link: https://GSA-South_State-Street-Scoping-Meeting.eventbrite.com. Written comments may be sent by the following methods:

• Email: statestreet@gsa.gov.

• Mail: Joseph Mulligan, U.S. General Services Administration, 230 S. Dearborn St., Suite 3600, Chicago, IL 60604.

FOR FURTHER INFORMATION CONTACT: Mr. Joseph Mulligan, U.S. General Services Administration, 230 S. Dearborn St., Suite 3600, Chicago, IL 60604; email: statestreet@gsa.gov.

SUPPLEMENTARY INFORMATION:

Scoping Process

The purpose of the public scoping process is to identify relevant issues that will influence the scope of analysis of the human and natural environment including cultural resources. The EIS will include public input on alternatives and impacts. This meeting will also initiate GSA's public consultation required by NHPA. GSA seeks input at this meeting that will assist the agency in planning for the Section 106 consultation process, identifying consulting parties, determining the area of the undertaking's potential effects on cultural resources (Area of Potential Effects), and envisioning alternatives to demolition that will avoid, minimize or mitigate adverse effects. Federal, state, and local agencies, along with affected members of the public, are invited to participate in the NEPA scoping and Section 106 process.

The National Historic Preservation Act (NHPA) and the National Environmental Policy Act (NEPA) are two separate laws which require federal agencies to consider the impacts to historic properties and the human environment before making decisions. NHPA and NEPA are independent statutes, yet may be executed concurrently to optimize efficiencies, transparency, and accountability to better understand the effects to the human, natural, and cultural environment. The EIS will be prepared pursuant to the requirements of the National Environmental Policy Act (NEPA) of 1969, the Council on Environmental Quality NEPA regulations, and the GSA Public Buildings Service NEPA Desk Guide. GSA will also consult with appropriate parties in accordance with Section 106 of the National Historic Preservation Act (NHPA) of 1966.

Opportunities for affected members of the public to become a consulting party during the NHPA Section 106 process will be presented during the public scoping meeting. You may submit a comment to express your interest in being a consulting party if you cannot attend the meeting.

Purpose and Need for the Proposed Action and Undertaking

The purpose of the Proposed Action and Undertaking is to address the potential security vulnerabilities associated with buildings 202, 208-212, 214 and 220 South State Street, to respond to the passing of the 2022 Consolidated Appropriations Act, which calls for the demolition of these buildings and to effectively manage federal property. The Proposed Action and Undertaking is specifically needed for the following reasons:

Address Security

• The Dirksen Federal Courthouse and its occupants are at particular risk of harm by hostile acts.

• Physical security surrounding the courthouse needs to be maintained and enhanced.

Respond to Congressional Intent

• Congress passed the 2022 Consolidated Appropriations Act with the following expectations:

○ Defined scope to demolish the four properties.

○ Funding for demolition of the four properties.

Manage Assets

• There is no federal occupancy need for the buildings.

Proposed Action and Undertaking and Preliminary Alternatives

The proposed action and undertaking are to address the future of buildings 202, 208-212, 214 and 220 South State Street, Chicago, Illinois. GSA has identified the following preliminary alternatives for the proposed action. However, additional alternatives proposed by the public may be considered in the EIS.

Demolition (Alternative A): GSA is considering the demolition of four buildings at 202, 208-212, 214 and 220 South State Street, Chicago, Illinois, per the 2022 Consolidated Appropriations Act. The funds appropriated by Congress are available only for demolition, securing the site, and landscaping the vacant site following demolition. The proposed action includes protection of adjacent properties during demolition, securing the vacant site of the demolished buildings and landscaping of the vacant site following demolition.

Viable Adaptive Reuse (Alternative B): The following is a current listing of reuse criteria developed in collaboration with the United States District Court, Northern District of Illinois, and federal law enforcement agencies. References therein to “Developer” include lessees, tenants, or other occupants and users of the properties. There are no federal funds available for rehabilitation, preservation, or restoration of buildings at 202, 208-212, 214 and 220 South State Street, Chicago, Illinois. Rehabilitation or modification of the properties in order to meet the following criteria will not be performed at the Government's expense. These restrictions are necessary to meet the security needs of the Dirksen U.S. Courthouse and would be applicable to any uses of the property.

1. The Federal government must retain ownership interests to achieve its security objectives, as determined by the government in its discretion.

2. Occupancy/Use: Properties shall not be used for short-term or long-term residential or lodging, places of worship, or medical treatment, services, or research. No use that requires access to outdoor areas is permitted.

3. Access to the roof is restricted to maintenance and repair activities. Personnel and materials that will be present in this area shall be subject to clearance and controls necessary to meet court security objectives.

4. Developer would have no access or use rights to Quincy Court.

5. Loading is prohibited in Quincy Court and otherwise restricted in a manner to achieve court security. Loading on State or Adams Streets would be subject to local ordinance requirements.

6. Occupants and users of the buildings shall have no sight lines into the Dirksen Courthouse, the Dirksen Courthouse ramp, or the Quincy Court properties owned by GSA.

7. No parking or vehicle access is permitted on or within the properties.

8. Developer is responsible for staffing, at their expense, security 24 hours with personnel approved by the Federal Protective Service or an entity to whom security services are delegated by Federal Protective Service.

9. Developer must obtain and maintain access control systems to prevent unauthorized access to any location within the structures. Each exterior entrance point must have an intrusion detection system and access control system installed, and Developer must provide federal law enforcement access to each system.

10. Developer must install and maintain interior and exterior security cameras and provide federal law enforcement officials with access and the ability to monitor the feeds in real time.

11. Developer must install exterior lighting necessary to achieve courthouse security objectives.

12. Perimeter Security: Developer must prevent unauthorized access to the properties that would result in an unapproved sight line.

13. Fire escapes, and any other structures that would allow access from the street, must be removed.

14. All construction documents and specifications for any renovation, rehabilitation, modification, or construction of any portion of the building (interior or exterior) will be subject to review and approval by federal law enforcement agencies.

15. No project may start without the advance approval of GSA.

No Action Alternative: GSA would continue with the status quo; the buildings would remain in place, vacant with significant repairs needed, and with limited federal funds available for maintenance.

Summary of Potential Impacts

The EIS will identify, describe, and analyze the potential effects of the Action and No Action alternatives. This will include direct, indirect, and cumulative effects resulting from the implementation of the Action and No Action Alternatives. At present, GSA has identified the following resources for analysis of both beneficial and adverse potential impacts: cultural resources; aesthetic and visual quality; land use and zoning; community cohesion; socioeconomics; hazardous materials; air quality; noise; transportation and traffic; human health and safety; coastal zones; and geology, soils, and topography. The EIS will consider measures that would avoid, minimize, or mitigate identified adverse impacts. GSA welcomes public input on these potential impacts and other resources that should be considered.

Anticipated Permits and Authorizations

In addition to NEPA, federal permits and other federal authorizations may be required for execution of the proposed action and undertaking or its alternatives. GSA's activities to meet its obligations under NEPA and Section 106 are not intended or presumed to effect compliance with all environmental regulation that may apply to the proposed action and undertaking, which involve separate regulatory permitting procedures. Examples include those required by the Clean Water Act, Clean Air Act, and applicable non-federal permitting laws.

Schedule for Decision-Making Process

The following is a list of estimated milestones and timeframes for the EIS process:

• EIS Notice of Intent (NOI) in Federal Register: November 2022

• NEPA Scoping Meeting Conducted with Initiation of Section 106: November 2022

• End of NEPA Scoping Period: December 2022

• Publication of the Draft EIS: April 2023

• Draft EIS Public Comment Period: April-June 2023

• Completion of Section 106 Process: January 2024

• Final EIS: January 2024

• Record of Decision: February 2024

William Renner,
Director, Facilities Management and Services Programs Division, U.S. General Services Administration.

[FR Doc. 2022-23721 Filed 10-31-22; 8:45 am]

BILLING CODE 6820-A9-P